OFFICE OF THE UNITED STATES TRADE REPRESENTATIVE

Notification of Interest by Candidate Cities for Permanent Site of the Free Trade Area of the Americas (FTAA) Secretariat

AGENCY: Office of the United States Trade Representative.

ACTION: Request for notification of interest by candidate cities before November 20, 2003.

SUMMARY: At the July 2003 Trade Negotiations Committee (TNC) meeting of the Free Trade Area of the Americas (FTAA) in San Salvador, Vice Ministers agreed that cities seeking to be considered to host the permanent site of the FTAA Secretariat should notify the FTAA Co-Chairs of their interest before November 20, 2003. Notifications of interest by candidate cities do not need to follow a particular format and may include any information deemed pertinent by the applicant. U.S. cities interested in being considered to host the permanent site of the Secretariat are encouraged to submit notifications at the earliest opportunity.

DATES: Notifications of interest should be received by the FTAA Co-Chairs (Brazil and the United States) before November 20, 2003.

ADDRESSES: To the Co-Chairs Ambassador Peter F. Allgeier and Ambassador Adhemar G. Bahadian. Submission by electronic mail to both tnc-cnc@ustr.gov and cnc-tnc@mre.gov.br, submissions by facsimile to both (202) 395-9602 and 011-(5561) 411-6097. Copies also should be sent to the Co-Chairs Assistants: Ms. Karen Lezny by electronic mail to klezny@ustr.gov or by facsimile (202) 395-9602; and Mr. João Marcos Paes Leme by electronic mail to cnc-tnc@mre.gov.br or facsimile 011—(5561) 411-6097. Candidate cities are strongly encouraged to submit documents electronically rather than by facsimile.

FOR FURTHER INFORMATION CONTACT: For procedural questions concerning response to Federal Register notices, contact Gloria Blue, Executive Secretary, Trade Policy Staff Committee, Office of the United States Trade Representative at (202) 395-3475. Questions concerning the FTAA negotiations should be addressed to the agency's Office of the Americas at (202) 395-5190, or the Office of Intergovernmental Affairs and Public Liaison at (202) 395-6120. the FTAA TNC Guidance and Instructions from the San Salvador July 2003 meeting are available on the USTR Web site at http://www.ustr.gov/regions/whemisphere/ftaa.shtml and the official FTAA Web site (http://www.ftaa-alca.org). This official FTAA Web site also contains general information regarding the FTAA process, including official documents.

SUPPLEMENTARY INFORMATION:

1. Background

On December 11, 1994, the 34 democratically-elected leaders in the Western Hemisphere met in Miami, Florida for the first Summit of the Americas. The Heads of State and Government agreed to construct a Free Trade Area of the Americas, or FTAA, in which barriers to trade and investment will be progressively eliminated. They also agreed to complete negotiations towards this agreement by the year 2005. Since that time, the 34 countries have been involved in comprehensive negotiations. The FTAA is the cornerstone of President Bush's vision for trade in the Western Hemisphere—a plan that would foster economic growth and opportunity, promote regional integration and strengthen democracies. When established, the FTAA create the largest free trade area in the world with a $13 trillion market and The FTAA countries have generally agreed that there will be a permanent Secretariat, but they have not yet defined either the functions of the Secretariat or its size.

2. Requirements for Submissions

Candidate cities interested in hosting the permanent site of the FTAA Secretariat should submit written notification to the addresses indicated above no later than November 20, 2003. In order to facilitate prompt processing of submissions, USTR strongly urges electronic (e-mail) submissions in response to this notice. Submissions by e-mail should use the following subject line: “Permanent FTAA Secretariat Site: Notification of Interest.” Documents should be submitted as either WordPerfect, MSWORD, or text (.TXT) files. Supporting documentation submitted as spreadsheets are acceptable as Quattro Pro or Excel files.

Notifications submitted in response to this request will be placed by the U.S. Co-Chair in a USTR file open to public inspection pursuant to 15 CFR 2003.5. All public documents shall be available for public inspection in the USTR Reading Room. The USTR Reading Room is open to the public, by appointment only, from 10 a.m. to 12 noon and from 1 p.m. to 4 p.m., Monday through Friday. An appointment to review the file must be scheduled at least 48 hours in advance and may be made by calling (202) 395-6186. General information concerning the Office of the United States Trade Representative may be obtained by accessing its Internet Web site (http://www.ustr.gov).

Christopher A. Padilla,
Assistant U.S. Trade Representative for Intergovernmental Affairs and Public Liaison.

[FR Doc. 03-21261 Filed 8-19-03; 8:45 am]

BILLING CODE 3190-01-M